SECURITIES AND EXCHANGE COMMISSION

Sunshine Act Meeting

Notice is hereby given, pursuant to the provisions of the Government in the Sunshine Act, Public Law 94-409, that the Securities and Exchange Commission will hold its second Roundtable on Mark-to-Market Accounting on Friday, November 21, 2008 beginning at 9:30 a.m.

The Roundtable will take place in the Auditorium of the Commission's headquarters at 100 F Street, NE., Washington DC. The Roundtable will be open to the public with seating on a first-come, first-served basis. Doors will open at 9 a.m. Visitors will be subject to security checks.

The roundtable will consist of an open discussion on potential improvements to the current accounting model and implications of possible changes. The roundtable will be organized as a panel consisting of investors, issuers, auditors and other parties with experience in mark-to-market accounting.

For further information, please contact the Office of the Secretary at (202) 551-5400.

Dated: November 14, 2008.
Florence E. Harmon,
Acting Secretary.

[FR Doc. E8-27557 Filed 11-18-08; 8:45 am]

BILLING CODE 8011-01-P